DEPARTMENT OF TRANSPORTATION

Federal Aviation Administration

14 CFR Part 71

[Docket No. FAA-2018-0825; Airspace Docket No. 18-ASO-17]

RIN 2120-AA66

Amendment of Class D and Class E Airspace; Louisville, KY

AGENCY: Federal Aviation Administration (FAA), DOT.

ACTION: Final rule, correction.

SUMMARY: This editorial amendment corrects the legal description published in the Federal Register on September 11, 2018, amending Class E surface area for Louisville International Airport, Louisville, KY, by removing excessive language (E-104) from the Class E surface area legal description.

DATES: Effective 0901 UTC, February 28, 2019. The Director of the Federal Register approves this incorporation by reference action under Title 1 Code of Federal Regulations part 51, subject to the annual revision of FAA Order 7400.11 and publication of conforming amendments.

FOR FURTHER INFORMATION CONTACT: John Fornito, Operations Support Group, Eastern Service Center, Federal Aviation Administration, 1701 Columbia Avenue, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace at Louisville International Airport, Louisville, KY, to support IFR operations at the airport.

History

The FAA published a final rule in the Federal Register (83 FR 45820, September 11, 2018) for Doc. No. FAA-2018-0825, amending Class D airspace and Class E surface airspace at Bowman Field Airport, Louisville, KY, that contained a clerical error in the airspace legal description. ‘E-104' was incorrectly placed after the geographic coordinates of Louisville International Airport, KY under the Class E surface airspace.

Class E airspace designation are published in paragraph 6002, of FAA Order 7400.11C dated August 13, 2018, and effective September 15, 2018, which is incorporated by reference in 14 CFR part 71.1. The Class E airspace designations listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This action amends Title 14 Code of Federal Regulations (14 CFR) part 71 by correcting a clerical error in the regulatory text of Class E airspace extending upward from the surface at Louisville International Airport, Louisville, KY. The text is corrected to read, ‘(Lat. 38°10′27″ N, long. 85°44′11″ W).'

Section 553(b)(3)(B) of the Administrative Procedures Act (5 U.S.C.) authorizes agencies to dispense with notice and comment procedure when the agency for “good cause” finds that these procedures are “impracticable, or contrary to the public interest.” Accordingly, action is taken herein to remove ‘E-104' from the geographic coordinates for Louisville International Airport. Therefore, in the interest of flight safety, I find that notice and public procedure under 5 U.S.C. 553(b) are impracticable and contrary to the public interest. Section 553(d) of the Administrative Procedures Act (5 U.S.C.) authorizes agencies to determine an effective date of less than 30 days after publication for good cause found and published with the rule. In consideration of the need to correct the airspace description for Louisville International Airport and to avoid confusion on the part of pilots flying in the vicinity of airport, the FAA finds good cause for making this amendment effective in less than 30 days in order to promote the safe and efficient handling of air traffic in the area.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, effective September 15, 2018, is amended as follows:

Paragraph 6002 Class E Airspace Areas Designated as Surface Areas.

* * * * *

ASO KY E2 Louisville, KY [Amended]

Bowman Field Airport, KY

(Lat. 38°13′41″ N, long. 85°39′49″ W)

Louisville International Airport, KY

(Lat. 38°10′27″ N, long. 85°44′11″ W)

That airspace extending upward from the surface within a 3.9-mile radius of Bowman Field Airport, excluding that portion within the Louisville International Airport Field Class C airspace area, and excluding that portion south of the 081° bearing from Louisville International Airport, and also excluding that portion north of the Louisville International Airport Class C airspace area and west of a line drawn from lat. 38°11′28″ N, long. 85°42′01″ W direct thru the point where the 030° bearing from Louisville International Airport intersects the 5-mile radius from Louisville International Airport to the point of intersection with the 3.9-mile radius from Bowman Field Airport. This Class E airspace area is effective during the specific dates and times established in advance by a Notice to Airmen. The effective date and time will thereafter be continuously published in the Chart Supplement.

Issued in College Park, Georgia, on November 29, 2018.
Ryan W. Almasy,
Manager, Operations Support Group, Eastern Service Center, Air Traffic Organization.

[FR Doc. 2018-26567 Filed 12-7-18; 8:45 am]

BILLING CODE 4910-13-P